DEPARTMENT OF ENERGY

Federal Energy Regulatory Commission

[Docket No. OR08-11-000]

Nexen Marketing U.S.A. Inc. Complainant, v. Enbridge Pipelines (North Dakota) LLC, Respondent; Notice of Complaint

June 20, 2008.

Take notice that on June 18, 2008, Nexen Marketing U.S.A. Inc. (Nexen) filed a formal complaint against Enbridge Pipelines (North Dakota) LLC (Enbridge North Dakota), pursuant to Rule 206 of the Rules of Practice and Procedures of the Commission's regulations, 18 CFR 385.206. Nexen alleges that Enbridge North Dakota has unfairly and unreasonably imposed penalties that substantially reduce the quantity of crude oil that Nexen is able to ship on its pipeline. Nexen alleges that a force majeure event occurred and Enbridge North Dakota's interpretation and application of the force majeure provision of its tariff was unjust and unreasonable and violated its obligation under the Interstate Commerce Act to treat shippers in a just, reasonable and nondiscriminatory manner.

Nexen certifies that copies of the complaint were served on the issuing officer of Enbridge North Dakota's tariff.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of Respondent's answer, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 18, 2008.

Kimberly D. Bose,
Secretary.

[FR Doc. E8-14684 Filed 6-27-08; 8:45 am]

BILLING CODE 6717-01-P